DEPARTMENT OF HOUSING AND URBAN DEVELOPMENT

[Docket No. FR-5750-N-22]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Ms. Theresa M. Ritta, Chief Real Property Branch, the Department of Health and Human Services, Room 5B-17, Parklawn Building, 5600 Fishers Lane, Rockville, MD 20857, (301)-443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: ARMY: Ms. Veronica Rines, Office of the Assistant Chief of Staff for Installation Management, Department of Army, Room 5A128, 600 Army Pentagon, Washington, DC 20310, (571)-256-8145; (This is not a toll-free number).

Dated: May 22, 2014.
Ann Marie Oliva,
Deputy Assistant Secretary (Acting), for Special Needs.

TITLE V, FEDERAL SURPLUS PROPERTY PROGRAM FEDERAL REGISTER REPORT FOR 05/30/2014

Suitable/Available Properties

Building

Alabama

5 Buildings

Redstone Arsenal

Redstone Arsenal AL 35898

Landholding Agency: Army

Property Number: 21201420016

Status: Unutilized

Directions: 7742A; 7742B; 7740A; 7740B; 7740

Comments: Off-site removal only; must be dismantled; no future agency need; extensive repairs required; contact Army for more information on a specific property & accessibility/removal requirements

2 Buildings

Fort Rucker

Fort Rucker AL 36362

Landholding Agency: Army

Property Number: 21201420032

Status: Unutilized

Directions: 9213; 27201

Comments: Off-site removal only; no future agency need; must be dismantled; secured area; contact Army for more information

24148

Fort Rucker

Ft. Rucker AL 36362

Landholding Agency: Army

Property Number: 21201420033

Status: Unutilized

Comments: off-site removal only; no future agency need; 45 sq. ft.; toll booth; fair conditions; secured area; contact Army for more information

24250

Fort Rucker

Ft. Rucker AL 36362

Landholding Agency: Army

Property Number: 21201420035

Status: Unutilized

Comments: off-site removal only; no future agency need; 49 sq. ft.; fair conditions; secured area; contact Army for more information

Alaska

6 Buildings

Fort Greely

812 Third Street

Fort Greely AK 99731

Landholding Agency: Army

Property Number: 21201420006

Status: Unutilized

Directions: 00812; 00813; 00814; 00816; 00817; 00818

Comments: Off-site removal only no future agency need; poor conditions; contamination; contact Army for information on a specific property and removal requirements

California

4 Buildings

Fort Hunter Liggett

711 ASP Road

Fort Hunter Liggett CA 93928

Landholding Agency: Army

Property Number: 21201420004

Status: Unutilized

Directions: 711; 710; 0408A; 719

Comments: Off-site removal only; no future agency need; poor conditions; must obtain access documentation; contact Army for information on a specific property and accessibility/removal requirements

Building 239

Fort Hunter Liggett

Fort Hunter Liggett CA 93928

Landholding Agency: Army

Property Number: 21201420005

Status: Underutilized

Directions: 209 sq. ft.; 24+ yrs.-old; latrine

Comments: Off-site removal only; no future agency need; must obtain access documentation; fair to poor conditions; contact Army for info. & accessibility removal requirements

Colorado

4 Buildings

Fort Carson

6466 Specker Ave., Building 1520

Fort Carson CO 80913-4001

Landholding Agency: Army

Property Number: 21201420007

Status: Unutilized

Directions: 01520; 01909; 05510; 06250

Comments: Off-site removal only; no future agency need; contamination; repairs required; secured area; contact Army for information on a specific property and accessibility/removal requirements

8 Buildings

Fort Carson

3446 Airfield Road, Building 9600

Fort Carson CO 80913-4001

Landholding Agency: Army

Property Number: 21201420008

Status: Excess

Directions: 09600; 09601; 09602; 9605; 9608; 09610; 9634A; 9635A

Comments: Off-Site removal only; contamination; repairs required; secured area; contact Army for information on a specific property and accessibility/removal requirements

Building 09611

Fort Carson

Ft. Carson CO 80913

Landholding Agency: Army

Property Number: 21201420012

Status: Underutilized

Comments: Off-site removal only; no future agency need; 4,255 sq. ft.; org. classroom; 49+yrs.-old; repairs required; contamination; secured area; contact Army for more information

Georgia

18 Buildings

Fort Benning

6491 Lavoie Avenue

Fort Benning GA 31905

Landholding Agency: Army

Property Number: 21201420014

Status: Excess

Directions: 02510; 02639; 02646; 03949; 03950; 04716; 04970; P2811; P2812; P3958: P8047; P8051; P8052; P8054; P8057; P8819; P9213; P9214

Comments: Off-site removal only; poor conditions; contact Army for more information on a specific property and removal requirements

Illinois

2 Buildings

USAG-Rock Island Arsenal

1480 East Street

Rock Island IL 61299-5000

Landholding Agency: Army

Property Number: 21201420024

Status: Underutilized

Directions: 157; 303

Comments: Off-site removal only; no future agency need; repairs required; secured area; contact Army for more information on a specific property accessibility/removal requirements

Building

Kansas

7 Buildings

Fort Riley

610 Warrior Rd.

Fort Riley KS 66442

Landholding Agency: Army

Property Number: 21201420002

Status: Excess

Directions: 610, 7614, 7616, 7842, 7846, 7850, 7863

Comments: Off-site removal only; major repairs needed, mold and asbestos; secured area; contact Army for information on a specific property and accessibility/removal requirements

Kentucky

5 Buildings

Fort Campbell

3069 Bastogne Avenue

Fort Campbell KY 42223

Landholding Agency: Army

Property Number: 21201420017

Status: Excess

Directions: 03069; 03932; 03071; 06992; 06990

Comments: Off-site removal only; fair conditions; secured area; contact Army for more information on a specific property and accessibility/removal requirements

Maryland

4 Buildings

Aberdeen Proving Ground

APG MD 21010

Landholding Agency: Army

Property Number: 21201420026

Status: Unutilized

Comments: Off-site removal only; no future agency need; secured area; contact Army for more information on a specific property & accessibility/removal requirements

New York

3 Buildings

Fort Drum

Fort Drum NY 13602

Landholding Agency: Army

Property Number: 21201420010

Status: Underutilized

Directions: 1395; 1495; 22639;

Comments: Off-site removal only; no future agency need; poor conditions; secured area; contact Army for more information on a specific property and removal/accessibility requirements

Oklahoma

7 Buildings

Fort Sill

Fort Sill OK 73503

Landholding Agency: Army

Property Number: 21201420030

Status: Unutilized

Directions: 1541; 1760; 2602; 2960; 5727; 6021; 6449

Comments: Off-site removal only; no future agency need; repairs required; contact Army for more information on a specific property and removal requirements

Puerto Rico

6 Buildings

Fort Buchanan

00176 Chrisman Road

Fort Buchanan PR 00934

Landholding Agency: Army

Property Number: 21201420011

Status: Excess

Directions: 00176; 00218; 00219; 00220; 00674; 00800

Comments: Off-site removal only; deteriorated; restricted access contact Army on a specific property and accessibility/removal requirements

Tennessee

Building 00850

Fort Campbell

Fort Campbell TN 42223

Landholding Agency: Army

Property Number: 21201420013

Status: Excess

Comments: 10,591 sq. ft.; office; 72+yrs.-old; fair conditions; repairs required; contamination; access restrictions; contact Army for more information

Texas

92065

92065 Supply Rd.

Fort Hoop TX 76544

Landholding Agency: Army

Property Number: 21201420021

Status: Excess

Comments: Off-site removal only; 3,994 sq. ft.; admin general purpose; 1+ month vacant; contact Army for more information

Unsuitable Properties

Building

Alabama

3 Buildings

Anniston Army Depot

Anniston AL 36201

Landholding Agency: Army

Property Number: 21201420020

Status: Unutilized

Directions: 00048; 00015; 00016

Comments: Public access denied and no alternative method to gain access without compromising national security

Reasons: Secured Area

Alaska

2 Buildings

Fort Wainwright

Ft. Wainwright AK 99703

Landholding Agency: Army

Property Number: 21201420028

Status: Unutilized

Directions: 3005; 3008

Comments: Public access denied and no alternative method to gain access without compromising national security

Reasons: Secured Area

California

Building 00948

Fort Hunter Liggett

Fort Hunter Liggett CA 93928

Landholding Agency: Army

Property Number: 21201420009

Status: Unutilized

Comments: Documented deficiencies; roof & walls have completely collapsed

Reasons: Extensive deterioration

Iowa

9 Buildings

Iowa Army Ammunition Plant

17575 Highway 79

Middletown IA 52601

Landholding Agency: Army

Property Number: 21201420031

Status: Unutilized

Directions: 00028; 00029; 00030; 00031; 00033; 00918; 00920; 05026; 05072

Comments: Public access denied and no alternative method to gain access without compromising national security

Reasons: Secured Area

Kentucky

21 Buildings

Fort Knox

Ft. Knox KY 40121

Landholding Agency: Army

Property Number: 21201420003

Status: Unutilized

Directions: 487; 01124; 01996; 02001; 02774; 02782; 07713; 07724; 07725; 09200; 09240; 09249; 09259; 09323; 09364; 09365; 09697; 09879; 09910; 09362; 09363

Comments: Public access denied and no alternative method to gain access without compromising national security

Reasons: Secured Area

Maryland

12 Buildings

Aberdeen Proving Ground

239 Magazine Road

APG MD 21005

Landholding Agency: Army

Property Number: 21201420022

Status: Unutilized

Directions: 00239; 00247; 00314; 00353; 0390A; 00528; 692; 01160; 02334; 03411; 03412; 03413

Comments: Public access denied and no alternative method to gain access without compromising national security

Reasons: Secured Area

North Carolina

2 Buildings

Fort Bragg

Fort Bragg NC 28310

Landholding Agency: Army

Property Number: 21201420015

Status: Unutilized

Directions: M6453; O9055

Comments: Public access denied and no alternative method to gain access without compromising national security

Reasons: Secured Area

E2310

Fort Bragg

Fort Bragg NC 28310

Landholding Agency: Army

Property Number: 21201420018

Status: Underutilized

Comments: Public access denied and no alternative method to gain access without compromising national security

Reasons: Secured Area

U1704

Fort Bragg

Ft. Bragg NC 28310

Landholding Agency: Army

Property Number: 21201420034

Status: Underutilized

Comments: Public access denied and no alternative method to gain access without compromising national security

Reasons: Secured Area

8 Buildings

Fort Bragg

Ft. Bragg NC 28310

Landholding Agency: Army

Property Number: 21201420036

Status: Underutilized

Directions: U2007; U2004; U1708; U2307; U1705; U2108; U1810; U2308

Comments: Public access denied and no alternative method to gain access without compromising national security

Reasons: Secured Area

Oklahoma

150MP

Camp Gruber Training Center

Braggs OK 74423

Landholding Agency: Army

Property Number: 21201420019

Status: Unutilized

Comments: Public access denied and no alternative method to gain access without compromising national security

Reasons: Secured Area

Pennsylvania

4 Buildings

Tobyhanna Army Depot

11 Hap Arnold Bulverde

Tobyhanna PA 18466

Landholding Agency: Army

Property Number: 21201420023

Status: Unutilized

Directions: 00500; 00501; 00502; 00509

Comments: Public access denied and no alternative method to gain access without compromising national security

Reasons: Secured Area

2 Buildings

Tobyhanna Army Deport

Tobyhanna PA 18466

Landholding Agency: Army

Property Number: 21201420027

Status: Underutilized

Directions: 0511A; 0511B

Comments: Public access denied and no alternative method to gain access without compromising national security

Reasons: Secured Area

Tennessee

Building 348

Holston Army Ammunition Plant

Kingsport TN 37660

Landholding Agency: Army

Property Number: 21201420025

Status: Unutilized

Comments: Public access denied and no alternative method to gain access without compromising national security

Reasons: Secured Area

Virginia

2 Buildings

Radford Army Ammunition Plant

Rte. 114, P.O. Box 2

Radford VA 24143-0002

Landholding Agency: Army

Property Number: 21201420029

Status: Underutilized

Directions: 726; 730

Comments: Public access denied and no alternative method to gain access without compromising national security

Reasons: Secured Area

[FR Doc. 2014-12375 Filed 5-29-14; 8:45 am]

BILLING CODE 4210-67-P